DEPARTMENT OF TRANSPORTATION

National Highway Traffic Safety Administration

[Docket No. NHTSA-2022-0047]

Model Minimum Uniform Crash Criteria (MMUCC) Committee

AGENCY: National Highway Traffic Safety Administration (NHTSA), Department of the Transportation (DOT).

ACTION: Notice of the creation of the MMUCC Committee.

SUMMARY: NHTSA has led the development of the Model Minimum Uniform Crash Criteria (MMUCC) since the first edition was published in 1998. NHTSA announces that it will form a MMUCC Committee to inform the development and revision of the MMUCC Guideline, sixth edition. The MMUCC Committee's objectives are: (1) to exchange views, information, and advice to further refine the collection of motor vehicle crash data and (2) to exchange views, information, and advice on institutional barriers preventing MMUCC implementation.

ADDRESSES: You may submit comments bearing the Federal Docket Management System Docket ID NHTSA-2022-0047 using any of the following methods:

• Federal rulemaking Portal: Go to https://www.regulations.gov. Follow the online instructions for submitting comments.

• Mail: Send comments to: Docket Management Facility, U.S. Department of Transportation, 1200 New Jersey Avenue SE, West Building, Room W12-140, Washington, DC 20590.

• Fax: Written comments may be faxed to (202) 493-2251.

• Hand Delivery: If you plan to submit written comments by hand or courier, please do so at 1200 New Jersey Avenue SE, West Building Ground Floor, Room W12-140, Washington, DC, between 9 a.m. and 5 p.m. Eastern Time, Monday through Friday, except Federal holidays.

Please submit all comments to the Docket by September 6, 2022.

Whichever way you submit your comments, please remember to mention the agency and the docket number of this document within your correspondence. Please note that all comments received will be posted without change to https://www.regulations.gov, including any personal information provided. Please see the “Privacy Act” heading below.

Privacy Act: Anyone can search the electronic form of all comments received into any of our dockets by the name of the individual submitting the comments (or signing the comments, if submitted on behalf of an association, business, labor union, etc.). You may review DOT's complete Privacy Act statement in the Federal Register published on April 11, 2000 (65 FR 19477-78) or you may visit https://DocketInfo.dot.gov.

FOR FURTHER INFORMATION CONTACT: For information, please contact John Siegler, National Center for Statistics and Analysis, NHTSA (telephone: 202-366-1268 or email: john.siegler@dot.gov).

SUPPLEMENTARY INFORMATION: The MMUCC Guideline identifies a voluntary, minimum set of motor vehicle crash data elements and their set of attributes that States can consider collecting and including on their law enforcement traffic crash report forms and in their electronic crash data systems. MMUCC promotes data uniformity within the highway safety community by creating a common foundation for State crash data systems to provide the information necessary to improve highway safety. Crash data is used to identify problems, determine highway safety messages and strategic communication campaigns, optimize the location of selective law enforcement, inform decision-makers of needed highway safety legislation, and evaluate the impact of highway safety countermeasures. NHTSA first published MMUCC with the Governors Highway Safety Association, Federal Highway Administration, Federal Motor Carrier Safety Administration, State and industry partners in 1998. The Guideline has been regularly updated to address emerging highway safety issues, with the most recent 5th Edition published in 2017.

While MMUCC is a voluntary Guideline for States, the crash data that NHTSA obtains from the States feeds both the Fatality Analysis Reporting System (FARS) and the Crash Report Sampling System (CRSS), which are essential to traffic safety research by NHTSA as well as by other agencies. Therefore, it is critical that the recommended MMUCC data elements be designed with clarity, purpose, and efficiency.

The MMUCC Committee will be comprised of employees of State, Local, or Tribal governments acting in their official capacity that collectively will represent government agencies that are stakeholders in the collection, management, and analysis of crash data. These employees will include law enforcement officers, data analysts, IT database administrators or managers, traffic records coordinating committee members, governors' representatives for highway safety, and Federal liaisons. The MMUCC Committee will exist until NHTSA determines that it has fulfilled its mission, and Committee members will serve until they resign or are replaced by NHTSA.

The intent of the MMUCC Committee will be for NHTSA to obtain information or viewpoints specific to the expertise of the Committee members on changes to the MMUCC Guideline. While MMUCC is a voluntary guideline for States, it is fundamental for NHTSA's crash data programs and, therefore, important that MMUCC data elements and attributes agree with CRSS and FARS. NHTSA, in consultation with this Committee, intends to produce the next edition of the MMUCC Guideline.

Issued in Washington, DC, on July 5, 2022 under authority delegated in 49 CFR part 1.95.

Chou-Lin Chen,
Associate Administrator, National Center for Statistics and Analysis.

[FR Doc. 2022-14240 Filed 7-1-22; 8:45 am]

BILLING CODE 4910-59-P